DEPARTMENT OF VETERANS AFFAIRS

Announcement of Public Meeting

AGENCY: Department of Veterans Affairs.

ACTION: Announcement of public meeting.

SUMMARY: The Department of Veterans Affairs (VA) is holding a public meeting to seek consultative advice in implementing section 3 of the Veterans Mobility Safety Act of 2016 (hereafter referred to as “the Act”), as VA develops the comprehensive policy regarding quality standards for providers of modification services to veterans under VA's automobile adaptive equipment (AAE) program.

DATES: Written comments, statements, testimonies and supporting information will be accepted between June 13, 2017 and June 20, 2017, and considered with the same weight as oral comments and supporting information presented at the public meeting. VA will hold the public meeting on June 13, 2017, in Washington, DC. The meeting will start at 9:00 a.m. and conclude on or before 4:00 p.m. Check-in will begin at 8:00 a.m.

ADDRESSES: The meeting will be held at the VA Central Office at 810 Vermont Ave. NW., Washington, DC 20420. This facility is accessible to individuals with disabilities.

*In person attendance will be limited to 150 individuals. Advanced registration for individuals and groups is strongly encouraged (see registration instructions below). For listening purposes only (phone lines will be muted), the meeting will be available via audio which can be accessed by dialing 1-800-767-1750 access code: 74078.

Please submit all written comments no later than June 20, 2017, by any of the following methods:

• Federal Rulemaking Portal: Go to http://www.regulations.gov. Follow the online instructions for submitting comments. Note: Comments previously submitted in response to the February 2nd notice will be considered and resubmission is not required.

• Mail, Hand Delivery, Courier: Postmarked no later than June 20, 2017, to: Director of Regulations Management (00REG), Department of Veterans Affairs, 810 Vermont Ave NW., Room 1068, Washington, DC 20420. Note: Copies of comments received will be available for public inspection in the Office of Regulation Policy and Management, Room 1063B, between the hours of 8:00 a.m. and 4:30 p.m., Monday through Friday (except Federal Holidays). Please call (202) 461-4902 (this is not a toll-free number) for an appointment.

• Fax: (202) 273-9026 ATTENTION: Director of Regulations Management (00REG).

All submissions must include the agency name and docket number. Note that all comments received will be posted and can be viewed online through the Federal Docket Management System at http://www.regulations.gov.

Privacy Act: Anyone is able to search the electronic form of all comments received into any of our dockets by the name of the individual submitting the comment (or signing the comment, if submitted on behalf of an association, business, labor union, etc.). You may review the Privacy Act Statement (5 U.S.C. 552, 552a, and 552b) or visit https://www.gpo.gov/fdsys/pkg/FR-2005-09-20/pdf/05-18728.pdf.

Confidential Business Information: If you wish to submit any information under a claim of confidentiality, you should submit three copies of your complete submission, including the information you claim to be confidential business information, to the Director of Regulations Management (00REG) at the address given under WRITTEN COMMENTS. In addition, you should submit two copies, from which you have deleted the claimed confidential business information, to Docket Management at the address given above. When you send a comment containing information claimed to be confidential business information, you should submit a cover letter setting forth the information specified in the privacy act statement section.

FOR FURTHER INFORMATION CONTACT: Shayla Mitchell, Ph.D., CRC, Rehabilitation and Prosthetic Services (10P4R), Veterans Health Administration, Department of Veterans Affairs, 810 Vermont Ave. NW., Washington, DC 20420, shayla.mitchell@va.gov or (202) 461-0389 (This is not a toll-free number.)

SUPPLEMENTARY INFORMATION: On February 2, 2017, VA published a notice in the Federal Register (FR), requesting information from interested parties regarding AAE safety and quality standards in order to assist in the development of the policy required by section 3 of the Act. 82 FR 9114. Based on the information received, VA will hold a public meeting to further consult with AAE providers, installers, manufacturers and modifiers, and other stakeholders (e.g., Veterans Service Organizations, Transportation/Traffic Researchers, State Rehabilitation Agencies, and Rehabilitation Organizations/Associations). The purpose of this public meeting is to continue to receive input regarding the safety and quality standards for AAE services for veterans and servicemembers under VA's AAE program. VA may choose to further contact attendees as necessary for the Department to develop its comprehensive policy regarding quality standards for VA's AAE program; if VA engages in any such consultations, a summary of these communications will be included in the public record for inspection. VA will use the information received through the February 2nd Federal Register notice, the public meeting, and any other related and necessary consultations to develop a policy that meets the requirements in section 3(b) of the Act. VA will then engage in rulemaking and solicit public comment articulating this policy. The resulting final rule and promulgated regulation will establish the policy required under section (3)(a) of the Act. Although section (3)(a) of the Act uses the term “policy”, a regulation is required to establish the program required by section (3)(a) of the Act because of the effect this will have on veterans and servicemembers in receipt of benefits and services through the AAE program and upon private entities furnishing services through this program.

Registration: In person attendance and participation in this meeting is limited to 150 individuals. VA has the right to refuse registration for in person attendance once the maximum capacity of 150 individuals has been reached. Individuals interested in attending in person should request registration by emailing Shayla Mitchell at Shayla.mitchell@va.gov by May 31, 2017, 4:00 p.m. ET. A confirmation message will be provided within 1-2 business days after a request has been received, and individuals will be notified via email on June 2, 2017, confirming their attendance in person. Attendees wanting to offer oral comments, testimonies, and/or technical remarks should indicate their intentions upon registration.

Individual registration: VA encourages individual registrations for those not affiliated with or representing a group, association, or organization.

Group registration: Identification of the name of the group, association, or organization should be indicated in your registration request. Due to the meeting location's maximum capacity, VA may limit the size of a group's registration to no more than five (5) individuals to allow receipt of comments, testimonies, and/or technical remarks from a broad, diverse group of stakeholders. Oral comments, testimonies, and/or technical remarks may be limited from a group, association or organization with more than five (5) individuals representing the same group, association, or organization. In those instances, submission of written comments is strongly encouraged.

Efforts will be made to accommodate all attendees who wish to attend in person. However, VA will give priority for in person attendance to those who request registration before May 31, 2017, 4:00 p.m. ET, and wish to provide oral comments, testimonies, and/or technical remarks. The length of time allotted for attendees to provide oral comments, testimonies and/or technical remarks during the meeting may be subject to the number of in person attendees, and to ensure ample time is allotted to those registered attendees (see Supplementary Information section). There will be no opportunity for audio-visual presentations during the meeting. Written comments will be accepted by those attending in person (see below instructions for submitting written comments).

Audio (For listening purposes only): Limited to the first 500 participants, on a first come, first served basis. Advanced registration is not required. Audio attendees will not be allowed to offer oral comments, testimonies, and/or technical remarks as the phone line will be muted. Written comments will be accepted from those participating via audio (see below instructions for submitting written comments).

Note: Should it be necessary to cancel the meeting due to inclement weather or other emergencies, VA will take available measures to notify registered participants. VA will conduct the public meeting informally, and technical rules of evidence will not apply. VA will arrange for a written transcript of the meeting and keep the official record open for 15 days after the meeting to allow submission of supplemental information. You may make arrangements for copies of the transcript directly with the reporter, and the transcript will also be posted in the docket of the rule as part of the official record when the rule is published.

Agenda

08:00-09:00 Arrival/Check-In

09:00-12:00 Morning Public Meeting Session

12:00-13:00 Lunch Break

(Note: Meals will not be provided by VA.)

13:00-16:00 Afternoon Public Meeting Session

16:00 Adjourn

(Note: Time for adjourning may be subject to change depending on the discussion and comments offered.)

Public Meeting Topics: Pursuant to Public Law 114-256, section 3, VA is seeking input in regard to the following topics:

• VA-wide management of the AAE program;

• Standards for safety and quality of AAE, and installation of AAE, including defining the differentiations in levels of modification complexity;

• Certification of a provider by a manufacturer if VA designates the quality standards of such manufacturer as meeting or exceeding the standards developed under this program;

• Certification of a provider by a third party, nonprofit organization if the Secretary designates the quality standards of such organization as meeting or exceeding the standards developed under this program;

• Compliance of a provider with the Americans with Disabilities Act of 1990 (42 U.S.C. 12101 et seq.) when furnishing AAE at the facility of the provider;

• Allowing, where technically appropriate, for veterans to receive modifications at their residence or location of choice, including standards that ensure such receipt and notification to veterans of the availability of such receipt;

• Consistent application of standards and compliance for safety and quality of both equipment and installation; and

• Education and training of personnel of the Department who administer the AAE program.

Signing Authority

The Secretary of Veterans Affairs, or designee, approved this document and authorized the undersigned to sign and submit the document to the Office of the Federal Register for publication electronically as an official document of the Department of Veterans Affairs. Gina S. Farrisee, Deputy Chief of Staff, Department of Veterans Affairs, approved this document on May 12, 2017, for publication.

Dated: May 12, 2017.
Jeffrey Martin,
Office Program Manager, Office of Regulation Policy & Management, Office of the Secretary, Department of Veterans Affairs.

[FR Doc. 2017-10080 Filed 5-17-17; 8:45 am]

BILLING CODE 8320-01-P